DEPARTMENT OF HOMELAND SECURITY

U.S. Customs and Border Protection

[1651-0138]

Agency Information Collection Activities: Biometric Identity

AGENCY: U.S. Customs and Border Protection (CBP), Department of Homeland Security.

ACTION: 30-Day notice and request for comments; revision and extension of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and will be accepted (no later than September 10, 2018]) to be assured of consideration.

ADDRESSES: Interested persons are invited to submit written comments on this proposed information collection to the Office of Information and Regulatory Affairs, Office of Management and Budget. Comments should be addressed to the OMB Desk Officer for Customs and Border Protection, Department of Homeland Security, and sent via electronic mail to dhsdeskofficer@omb.eop.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number (202) 325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (83 FR 24326) on May 25, 2018, allowing for a 60-day comment period. This notice allows for an additional 30 days for public comments. This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Biometric Identity.

OMB Number: 1651-0138.

Type of Review: Revision and Extension (with change).

Current Actions: This submission is being made to revise the information collection and extend the expiration date with a change to the burden hours due to an increase in the number of respondents in agency estimates and separating the different biometric modalities. Proposed Change: CBP is proposing to revise this collection of information to include the collection of biometrics from certain travelers entering and exiting the United States in vehicles. This collection will not impose a time burden on the respondents and may reduce wait times at the ports of entry and exit.

Affected Public: Individuals.

Abstract: In order to enhance national security, the Department of Homeland Security is developing a biometric based entry and exit system capable of improving the information resources available to immigration and border management decision-makers. These biometrics may include: Digital fingerprint scans, facial images, iris images or other biometrics. Biometrics may be collected from certain travelers entering or exiting the United States in order to verify identity, determine admissibility of those seeking entry into the United States, confirm exit from the United States for the purpose of tracking aliens who have overstayed their visa or are otherwise illegally present in the United States, prevent visa fraud, and identify known or suspected criminals or terrorists. CBP will only store biometric data from those aliens specified in 8 CFR 215.8 and 8 CFR 235.1. U.S. Citizens and aliens who are generally exempt from biometric collection but voluntarily participate in biometric collection will have their biometrics deleted from DHS systems. CBP continues to test and evaluate different technological and operational changes to improve the accuracy and speed of biometric collection.

The federal statutes that mandate DHS to create a biometric entry and exit system include: Section 2(a) of the Immigration and Naturalization Service Data Management Improvement Act of 2000 (DMIA), Public Law 106-215, 114 Stat. 337 (2000); Section 205 of the Visa Waiver Permanent Program Act of 2000, Public Law 106-396, 114 Stat. 1637, 1641 (2000); Section 414 of the Uniting and Strengthening America by Providing Appropriate Tools Required to Intercept and Obstruct Terrorism Act of 2001 (USA PATRIOT Act), Public Law 107-56, 115 Stat. 272, 353 (2001); Section 302 of the Enhanced Border Security and Visa Entry Reform Act of 2002 (Border Security Act), Public Law 107-173, 116 Stat. 543, 552, (2002); Section 7208 of the Intelligence Reform and Terrorism Prevention Act of 2004 (IRTPA), Public Law 108-458, 118 Stat. 3638, 3817 (2004); Section 711 of the Implementing Recommendations of the 9/11 Commission Act of 2007, Public Law 110-53, 121 Stat. 266 (2007), Consolidated Appropriations Act, 2016, Public Law 114-113, 129 Stat. 2242, 2493 (2016), Section 110 of the Illegal Immigration Reform and Immigrant Responsibility Act of 1996, Public Law 104-208, 110 Stat. 3009-546 (1997), Section 802 of the Trade Facilitation and Trade Enforcement Act of 2015, Public Law 114-125, 130 Stat. 122, 199 (2015), and Sections 214, 215(a), 235(a), 262(a), 263(a) and 264(c) of the Immigration and Nationality Act of 1952, as amended, 8 U.S.C. 1184, 1185(a), 1225(a), 1302(a)(1303(a), 1304(c) and 1365b.

Fingerprint Modality

Estimated Number of Respondents: 58,657,882.

Estimated Time per Response: .0097 hours.

Estimated Total Annual Burden Hours: 568,981.

Facial/Iris Modality

Estimated Number of Respondents: 54,542,118.

Estimated Time per Response: .0025 hours.

Estimated Total Annual Burden Hours: 136,355.

Biometrics Collected From Travelers in Vehicles

Estimated Number of Respondents: 300,000.*

Estimated Time per Response: None.

Estimated Total Annual Burden Hours: None.

* Vehicle time per Respondent is estimated at zero due to no physical response required from the respondent.

Dated: August 6, 2018.
Seth D. Renkema,
Branch Chief, Economic Impact Analysis Branch, U.S. Customs and Border Protection.

[FR Doc. 2018-17079 Filed 8-8-18; 8:45 am]

BILLING CODE 9111-14-P